DEPARTMENT OF LABOR

Employment and Training Administration

[TA-W-61,728]

R and S Vinyl Products Group L.L.C., Clarion, PA; Notice of Negative Determination Regarding Application for Reconsideration

By application of August 31, 2007, a petitioner requested administrative reconsideration of the Department's negative determination regarding eligibility for workers and former workers of the subject firm to apply for Alternative Trade Adjustment Assistance (ATAA).

The workers of R&S Vinyl Products Group LLC, Clarion, Pennsylvania were certified eligible to apply for Trade Adjustment Assistance (TAA) and denied to apply for ATAA on July 31, 2007. The denial notice was published in the Federal Register on August 14, 2007 (72 FR 45451).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

The group eligibility criteria for the ATAA program that the Department must consider under Section 246 of the Trade Act are:

1. Whether a significant number of workers in the workers' firm are 50 years of age or older.

2. Whether the workers in the workers' firm possess skills that are not easily transferable.

3. The competitive conditions within the workers' industry (i.e., conditions within the industry are adverse).

The initial ATAA investigation determined that the skills of the subject worker group are easily transferable to other positions in the local area.

In the request for reconsideration, the petitioner requested a review of the initial petition and to include the ATAA benefits. The petitioner appears to be under the impression that the workers eligibility for ATAA was not investigated in the original investigation.

The Department reviewed the initial investigation and determined that subject workers eligibility for ATAA was investigated. The investigation revealed that workers' skills are transferable to other positions within the commuting area. However, the Department conducted additional investigation on reconsideration and contacted a company official to determine if workers' are eligible for ATAA. Based on a company official's statements it was confirmed that there are several existing and new manufacturing facilities within the commuting area, which are in the process of hiring workers with skills similar to those possessed by the subject worker group. Consequently, the investigation confirmed that workers' skills are easily transferable to other companies.

Conclusion

After review of the application and investigative findings, I conclude that there has been no error or misinterpretation of the law or of the facts which would justify reconsideration of the Department of Labor's prior decision. Accordingly, the application is denied.

Signed at Washington, DC, this 17th day of September 2007.
Elliott S. Kushner,
Certifying Officer, Division of Trade Adjustment Assistance.

[FR Doc. E7-19027 Filed 9-26-07; 8:45 am]

BILLING CODE 4510-FN-P